DEPARTMENT OF LABOR

Employment and Training Administration

[TA-W-64,360]

Meadwestvaco Corporation Consumer and Office Products Division, Enfield, CT; Notice of Termination of Investigation on Reconsideration

By application dated April 1, 2009, the petitioners requested administrative reconsideration of the Department's negative determination regarding eligibility for workers and former workers of MeadWestvaco Corporation, Consumer and Office Products Division, Enfield, Connecticut (subject firm) to apply for Trade Adjustment Assistance (TAA) and Alternative Trade Adjustment Assistance (ATAA). The Department's Notice of Affirmative Determination Regarding Application for Reconsideration was signed on April 7, 2009, and published in the Federal Register on April 16, 2009 (74 FR 17691).

The petitioners have requested that the request for reconsideration be withdrawn. Consequently, the investigation has been terminated.

Signed at Washington, DC, this 16th day of April 2009.
Elliott S. Kushner,
Certifying Officer, Division of Trade Adjustment Assistance.

[FR Doc. E9-10897 Filed 5-8-09; 8:45 am]

BILLING CODE 4510-FN-P